DEPARTMENT OF HOMELAND SECURITY

U.S. Customs and Border Protection

Customs Broker Permit User Fee Payment for 2025

AGENCY: U.S. Customs and Border Protection, Department of Homeland Security.

ACTION: General notice.

SUMMARY: This document provides notice to customs brokers that the annual user fee that is assessed for each permit held by a customs broker, whether an individual, partnership, association, or corporation, is due no later than January 31, 2025. Pursuant to fee adjustments required by the Fixing America's Surface Transportation Act (FAST Act) and the U.S. Customs and Border Protection (CBP) regulations, the customs broker permit user fee payable for calendar year 2025 will be $180.57.

DATES: Payment of the 2025 Customs Broker Permit User Fee is due no later than January 31, 2025.

FOR FURTHER INFORMATION CONTACT: Mohammad O. Qureshi, Chief, Broker Management Branch, Office of Trade, (202) 909-3753, or mohammad.o.qureshi@cbp.dhs.gov.

SUPPLEMENTARY INFORMATION:

Background

Pursuant to section 111.96 of title 19 of the Code of Federal Regulations (CFR) (19 CFR 111.96(c)), U.S. Customs and Border Protection (CBP) assesses an annual user fee for each customs broker permit granted to an individual, partnership, association, or corporation. The CBP regulations provide that this fee is payable each calendar year for a national permit held by a customs broker and must be paid by the due date published annually in the Federal Register. See 19 CFR 24.22(h) and (i); 19 CFR 111.96(c).

Section 24.22 of title 19 of the CFR (19 CFR 24.22) sets forth the terms and conditions for when fees for certain services, including specific customs user fees, are required. The specific customs user fee amounts that appear in 19 CFR 24.22 are not the actual fees but represent the base year amounts that are subject to adjustment each fiscal year in accordance with the Fixing America's Surface Transportation Act (FAST Act) (Pub. L. 114-94, December 4, 2015). Section 32201 of the FAST Act amended section 13031 of the Consolidated Omnibus Budget Reconciliation Act (COBRA) of 1985 (19 U.S.C. 58c) by requiring the Secretary of the Treasury to adjust certain customs COBRA user fees and corresponding limitations to reflect certain increases in inflation. Paragraph (k) of section 24.22 of title 19 of the CFR (19 CFR 24.22(k)) sets forth the methodology to adjust fees for inflation and to determine the change in inflation, including the factor by which the fees and limitations will be adjusted, if necessary.

Customs brokers are subject to an annual customs broker permit user fee calculated using the base year amount in appendix A to 19 CFR part 24, as adjusted by the terms in 19 CFR 24.22(k). See 19 U.S.C. 58c(a)(7) and 19 CFR 24.22(h). In accordance with 19 CFR 24.22, CBP determines annually whether an adjustment to the fees and limitations is necessary and publishes a Federal Register notice specifying the amount of the fees and limitations for each fiscal year. On July 22, 2024, CBP published a Federal Register notice, entitled Customs User Fees To Be Adjusted for Inflation in Fiscal Year 2025 (CBP Decision 24-11), which announced, among other fee adjustments, that the annual customs broker permit user fee will increase to $180.57 for calendar year 2025. See 89 FR 59126.

Thus, as required by 19 CFR 24.22, CBP provided notice in the Federal Register of the annual fee amount at least 60 days prior to the date that the payment is due for each customs broker national permit. This document notifies customs brokers that, for calendar year 2025, the due date for payment of the annual customs broker permit user fee is January 31, 2025. If a customs broker fails to pay the annual customs broker permit user fee by January 31, 2025, the national permit is revoked by operation of law. See 19 CFR 111.45(b) and 111.96(c).

Customs brokers may either submit the fee through the eCBP portal or submit the fee at the processing Center, as defined in 19 CFR 111.1, in accordance with the remittance procedures in 19 CFR 24.22(i). CBP encourages customs brokers to pay the annual customs broker permit user fee electronically via the eCBP portal, located at https://e.cbp.dhs.gov/brokers/#/home. Customs brokers who are first time users of the eCBP portal must create a Login.gov account. Instructions and training resources, such as user and quick reference guides, for customs brokers on how to create a Login.gov account and how to use the eCBP portal can be found on CBP's website at https://www.cbp.gov/trade/eCBP.

Rose M. Brophy,
Acting Executive Assistant Commissioner, Office of Trade.

[FR Doc. 2024-27380 Filed 11-21-24; 8:45 am]

BILLING CODE 9111-14-P